DEPARTMENT OF TRANSPORTATION

Federal Aviation Administration

14 CFR Part 71

[Docket No. FAA-2017-0143; Airspace Docket No. 17-AGL-5]

Amendment of Class E Airspace, Stevens Point, WI

AGENCY: Federal Aviation Administration (FAA), DOT.

ACTION: Final rule, correction.

SUMMARY: This action corrects a final rule published in the Federal Register of November 1, 2017 that modifies Class E airspace extending upward from 700 feet above the surface at Stevens Point Municipal Airport, Stevens Point, WI, to accommodate new standard instrument approach procedures for instrument flight rules operations at the airport. The FAA identified that the latitude coordinate was incorrect.

DATES: Effective 0901 UTC, February 1, 2018. The Director of the Federal Register approves this incorporation by reference action under Title 1, Code of Federal Regulations, part 51, subject to the annual revision of FAA Order 7400.11 and publication of conforming amendments.

FOR FURTHER INFORMATION CONTACT: Walter Tweedy, Federal Aviation Administration, Operations Support Group, Central Service Center, 10101 Hillwood Parkway, Fort Worth, TX 76177; telephone (817) 222-5900.

SUPPLEMENTARY INFORMATION:

History

The FAA published a final rule in the Federal Register (82 FR 50503, November 1, 2017) Docket No. FAA-2017-0143, modifying Class E airspace extending upward from 700 feet above the surface at Stevens Point Municipal Airport, Stevens Point, WI.

Subsequent to publication, the FAA found that the geographic coordinates for the airport were incorrect. This action amends the latitude coordinate in the airspace designation.

Class E airspace designations are published in paragraph 6005, respectively, of FAA Order 7400.11B, dated August 2, 2017, and effective September 15, 2017, which is incorporated by reference in 14 CFR 71.1. The Class E airspace designations listed in this document will be published subsequently in the Order.

Correction to Final Rule

Accordingly, pursuant to the authority delegated to me, in the Federal Register of November 1, 2017 (82 FR 50503) FR Doc. 2017-23434, Amendment of Class E Airspace; Stevens Point, WI, is corrected as follows:

§ 71.1 [Amended]

AGL WI E5 Stevens Point, WI [Corrected]

On page 50504 column 1, line 59, remove “Lat. 44°32′43″ N.” and add in its place “Lat. 44°32′42″ N.”

Issued in Fort Worth, Texas, on December 1, 2017.
Christopher L. Southerland,
Acting Manager, Operations Support Group, ATO Central Service Center.

[FR Doc. 2017-26656 Filed 12-11-17; 8:45 am]

BILLING CODE 4910-13-P